DEPARTMENT OF THE INTERIOR

Fish and Wildlife Service

Endangered and Threatened Species Permit Application

AGENCY: Fish and Wildlife Service, Interior.

ACTION: Notice of receipt of application.

The following applicants have applied for permits to conduct certain activities with endangered species. This notice is provided pursuant to section 10(c) of the Endangered Species Act of 1973, as amended (16 U.S.C. 1531, et seq.).

Permit Number TE038823

Applicant: Christopher W. Sanders, Sayre, Pennsylvania

The applicant requests a permit to take (capture, handle and release) the Indiana bat (Myotis sodalis), Virginia big-eared bat (Corynorhinus townsendii virginianus), and gray bat (Myotis grisescens). Activities are proposed for studies throughout the range of the Indiana bat (Eastern and Midwestern U.S.) to identify populations (mistnetting, harp trapping, echolocation), develop methods to minimize or avoid project related impacts to those populations (radio telemetry, banding), and to identify new populations of Indiana bats. The scientific research is aimed at enhancement of survival of the species in the wild.

Permit Number TE038824

Applicant: Jeanette C. Martinez, Minneapolis, Minnesota

The applicant requests a permit to take (capture, handle and release) the Hine's emerald dragonfly (Somatochlora hineana) in Door County, Wisconsin, and DuPage, Cook, and Will Counties, Illinois. Research activities proposed are designed to model population dynamics via genetic analyses. The scientific research is aimed at enhancement of survival of the species in the wild.

Permit Number TE039066

Applicant: Merrill B. Tawse, Lucus, Ohio

The applicant requests a permit to take (capture, handle and release) the Indiana bat (Myotis sodalis) in Ohio. Research activities include capture, radio-marking, and evaluating habitat used by the Indiana bat. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy from the following office within 30 days of the date of publication of this notice: U.S. Fish and Wildlife Service, Ecological Services Operations, 1 Federal Drive, Fort Snelling, Minnesota 55111-4056, peter_fasbender@fws.gov, telephone (612) 713-5343, or FAX (612) 713-5292.

Dated: February 16, 2001.
Jeff Gosse,
Acting Assistant Regional Director, Ecological Services, Region 3, Fort Snelling, Minnesota.

[FR Doc. 01-4932 Filed 3-2-01; 8:45 am]

BILLING CODE 4310-55-P